DEPARTMENT OF HOMELAND SECURITY

Federal Emergency Management Agency

[Docket ID: FEMA-2010-0015]

Agency Information Collection Activities: Proposed Collection; Comment Request, 1660-0086; National Flood Insurance Program—Mortgage Portfolio Protection Program (MPPP)

AGENCY: Federal Emergency Management Agency, DHS.

ACTION: Notice; 60-day notice and request for comments; revision of a currently approved information collection; OMB No. 1660-0086; No Form.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the Mortgage Portfolio Protection Program, which assists the mortgage lending and servicing industries bring their mortgage portfolios into compliance with Federal flood insurance requirements.

DATES: Comments must be submitted on or before July 6, 2010.

ADDRESSES: To avoid duplicate submissions to the docket, please use only one of the following means to submit comments:

(1) Online. Submit comments at http://www.regulations.gov under Docket ID FEMA-2010-0015. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include Docket ID FEMA-2010-0015 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the Notice link in the footer of http://www.regulations.gov.

FOR FURTHER INFORMATION CONTACT: Contact Susan Bernstein, Program Analyst, FEMA Mitigation Division, (202) 212-2113 for additional information. You may contact the Records Management Division for copies of the proposed collection of information at facsimile number (202) 646-3347 or e-mail address: FEMA-Information-Collections-Management@dhs.gov.

SUPPLEMENTARY INFORMATION: The National Flood Insurance Program (NFIP) is authorized in Public Law 90-448 (1968) and expanded by Public Law 93-234 (1973), and is codified as 42 U.S.C. 4001, et seq. Public Law 103-325 (1994) expands upon this and provides federally supported flood insurance for existing buildings exposed to flood risk. In accordance with Public Law 93-234, the purchase of flood insurance is mandatory when Federal or federally related financial assistance is being provided for acquisition of flood hazard areas of communities that are participating in the program. The Mortgage Portfolio Protection program (MPPP) is an option that companies participating in the NFIP can use to bring their mortgage loan portfolios into compliance with the flood insurance purchase requirements of the three public laws described previously. Title 44 CFR 62.23(l)(1), with 44 CFR Appendix A to Part 62 implements the MPPP requirements for specific notices and other procedures that must be adhered to. Title 44 CFR 62.23(l)(2) indicates that Write-Your-Own (WYO) Companies participating in the MPPP must provide a detailed implementation package, known as the Mortgage Portfolio Protection Program Agreement, to any lending institutions that are requesting insurance coverage and the lender must acknowledge receipt.

Collection of Information

Title: National Flood Insurance Program—Mortgage Portfolio Protection Program (MPPP).

Type of Information Collection: Revision of a currently approved information collection.

OMB Number: 1660-0086.

Form Titles and Numbers: No Form.

Abstract: A WYO Company that wishes to participate in the MPPP must review the information listed in the Mortgage Portfolio Protection Program Agreement and complete the acknowledgement either agreeing to participate in the MPPP or electing to continue under just the WYO guidelines. This acknowledgment is used to determine which WYO Companies will be writing insurance under the Mortgage Portfolio Protection Program and which ones choose only to sell flood insurance through the regular WYO Program. A lender wishing to obtain flood insurance through an MPPP participating insurance company must review the Financial Assistance/Subsidy Arrangement and acknowledge the terms by signing the notice of acceptance provided with the Arrangement. This acceptance is used to verify that the lender understands the terms of the agreement so that they can properly apply for flood insurance.

Affected Public: Business or other for-profit.

Estimated Total Annual Burden Hours: 170.5 Hours.

Table A.12—Estimated Annualized Burden Hours and Costs
Type of respondent | Form name/form No. | Number of respondents | Number of responses per respondent | Total number of responses | Avg. burden per response (in hours) | Total annual burden (in hours) | Avg. hourly wage rate | Total annual respondent cost
Business or other for-profit | Mortgage Portfolio Protection Program Agreement Notice of Acceptance (Formerly Lender/Mortgagor Service Coordination) New Entrant/No Form | 91 | 1 | 91 | .5 | 45.5 | $40.68 | $1,851
Business or other for-profit | Financial Assistance/Subsidy Arrangement Receipt for Materials/No Form | 250 | 1 | 250 | .5 | 125 | 43.75 | 5,434

Estimated Cost: There are no recordkeeping, capital, start-up or maintenance costs associated with this information collection.

Comments

Comments may be submitted as indicated in the ADDRESSES caption above. Comments are solicited to: (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 28, 2010.
Samuel C. Smith,
Acting Director, Records Management Division, Mission Support Bureau, Federal Emergency Management Agency, Department of Homeland Security.

[FR Doc. 2010-10527 Filed 5-4-10; 8:45 am]

BILLING CODE 9110-11-P